DEPARTMENT OF HEALTH AND HUMAN SERVICES

Food and Drug Administration

Los Angeles District Office; Meeting

AGENCY: Food and Drug Administration, HHS.

ACTION: Notice of meeting.

The Food and Drug Administration (FDA) is announcing a meeting which is intended to give the drugs, devices, and biologics industries and consumers an opportunity to exchange information with the FDA Los Angeles District staff. The main focus of the meeting is to provide an opportunity for the Los Angeles District leadership to interact with industry and the public, and to discuss regulatory affairs, plans, and future programs. The open house is sponsored by the Orange County Regulatory Affairs Discussion Group (OCRA).

Date and Time: The open house will be held on Tuesday, October 22, 2002, from 6 p.m. to 9 p.m.

Location: The open house will be held at FDA Los Angeles District, 19900 MacArthur Boulevard, suite 300, Irvine, CA 92612.

Contact: Ramlah Oma, Food and Drug Administration, 19900 MacArthur Blvd., suite 300, Irvine, CA 92612, 949-798-7611, FAX: 949-798-7656, or Jack Dhuwalia, OCRA, PMB 624, 5405 Alton Pkwy, suite 5A, Irvine, CA 92604, 888-532-4357, FAX: 949-854-2672, Internet: www.ocra-dg.org.

Registration and open house Information: For registration information, including registration form and electronic payment, see the OCRA Internet site at www.ocra-dg.org (click on “ OCRA meetings”).

Registrations fees are $40.00 for members of OCRA, Southern California Pharmaceutical Discussion Group (SCPDG), and Parenteral Drug Association (PDA), and $45.00 for nonmembers. The cost includes hot and cold hors d'oeuvres, dessert and nonalcoholic beverages, but excludes parking fees.

If you need special accommodations due to a disability, please contact Ramlah Oma (see Contact) at least 7 days in advance.

Dated: October 1, 2002.
Margaret M. Dotzel,
Associate Commissioner for Policy.

[FR Doc. 02-25392 Filed 10-4-02; 8:45 am]

BILLING CODE 4160-01-S